DEPARTMENT OF DEFENSE

Office of the Secretary

Department of Defense Wage Committee (DoDWC); Notice of Federal Advisory Committee Meetings

AGENCY: Under Secretary of Defense for Personnel and Readiness, Department of Defense (DoD).

ACTION: Notice of closed Federal Advisory Committee meetings.

SUMMARY: The DoD is publishing this notice to announce that the following Federal Advisory Committee meetings of the DoDWC will take place.

DATES:

Tuesday, October 19, 2021 from 10:00 a.m. to 11:00 a.m. and will be closed to the public.

Tuesday, November 2, 2021 from 10:00 a.m. to 12:00 p.m. and will be closed to the public.

Tuesday, November 16, 2021 from 10:00 a.m. to 12:00 p.m. and will be closed to the public.

Tuesday, November 30, 2021 from 10:00 a.m. to 11:00 a.m. and will be closed to the public.

Tuesday, December 14, 2021 from 10:00 a.m. to 12:00 p.m. and will be closed to the public.

Tuesday, January 11, 2022 from 10:00 a.m. to 11:00 a.m. and will be closed to the public.

ADDRESSES: The closed meetings will be held by teleconference.

FOR FURTHER INFORMATION CONTACT: Mr. Karl Fendt, (571) 372-1618 (voice), karl.h.fendt.civ@mail.mil. (email), 4800 Mark Center Drive, Suite 05G21, Alexandria, Virginia 22350 (mailing address). Any agenda updates can be found at the DoDWC's official website: https://wageandsalary.dcpas.osd.mil/BWN/DODWC/.

SUPPLEMENTARY INFORMATION: Meeting Announcement: Due to circumstances beyond the control of the Department of Defense and the Designated Federal Officer for the DoDWC, the DoDWC was unable to provide public notification required by 41 CFR 102-3.450(a) concerning its October 19, 2021 meeting. Accordingly, the Advisory Committee Management Officer for the Department of Defense, pursuant to 41 CFR 102-3.150(b), waives the 15-calendar day notification requirement. These meetings are being held under the provisions of the Federal Advisory Committee Act (FACA) (5 U.S.C., Appendix), the Government in the Sunshine Act (5 U.S.C. 552b), and 41 CFR 102-3.140 and 102-3.150.

Purpose of the Meeting: The purpose of these meetings is to provide independent advice and recommendations on matters relating to the conduct of wage surveys and the establishment of wage schedules for all appropriated fund and non-appropriated fund areas of blue-collar employees within the DoD.

Agenda

October 19, 2021

Reviewing survey results and/or survey specifications for the following Nonappropriated Fund areas:

1. Any items needing further clarification or action from the previous agenda.

2. Wage Schedule (Wage Change) for the Ventura, California wage area (AC-132).

3. Wage Schedule (Wage Change) for the San Bernardino, California wage area (AC-134).

Reviewing survey results and/or survey specifications for the following Appropriated Fund areas:

4. Wage Schedule (Full Scale) for the Albany, Georgia wage area (AC-036).

5. Wage Schedule (Full Scale) for the Northwestern Michigan wage area (AC-071).

6. Wage Schedule (Full Scale) for the Scranton-Wilkes-Barre, Pennsylvania wage area (AC-117).

7. Wage Schedule (Wage Change) for the Little Rock, Arkansas wage area (AC-011).

8. Wage Schedule (Wage Change) for the Boston, Massachusetts wage area (AC-068).

9. Survey Specifications for the Birmingham, Alabama wage area (AC-002).

10. Survey Specifications for the Southern Colorado wage area (AC-023).

11. Survey Specifications for the Hagerstown-Martinsburg-Chambersburg, Maryland wage area (AC-067).

12. Survey Specifications for the Dayton, Ohio wage area (AC-107).

13. Survey Specifications for the Harrisburg, Pennsylvania wage area (AC-114).

14. Survey Specifications for the Wyoming wage area (AC-150).

15. Special Pay—Boston, Massachusetts Special Rates.

16. Any items needing further clarification from this agenda may be discussed during future scheduled meetings.

November 2, 2021

Reviewing survey results and/or survey specifications for the following Nonappropriated Fund areas:

1. Any items needing further clarification or action from the previous agenda.

2. Wage Schedule (Full Scale) for the Monterey, California wage area (AC-003).

3. Wage Schedule (Full Scale) for the Kern, California wage area (AC-010).

4. Wage Schedule (Full Scale) for the San Diego, California wage area (AC-054).

5. Wage Schedule (Full Scale) for the Solano, California wage area (AC-059).

6. Wage Schedule (Wage Change) for the Los Angeles, California wage area (AC-130).

7. Wage Schedule (Wage Change) for the Orange, California wage area (AC-131).

8. Wage Schedule (Wage Change) for the Santa Barbara, California wage area (AC-135).

9. Wage Schedule (Wage Change) for the Guam wage area (AC-150).

10. Survey Specifications for the Oklahoma, Oklahoma wage area (AC-052).

11. Survey Specifications for the Harrison, Mississippi wage area (AC-070).

12. Survey Specifications for the Hardin-Jefferson, Kentucky wage area (AC-096).

13. Survey Specifications for the Wayne, North Carolina wage area (AC-107).

14. Survey Specifications for the Cumberland, North Carolina wage area (AC-108).

15. Survey Specifications for the Richland, South Carolina wage area (AC-110).

16. Survey Specifications for the Wichita, Texas wage area (AC-122).

17. Survey Specifications for the Comanche, Oklahoma wage area (AC-123).

18. Survey Specifications for the Craven, North Carolina wage area (AC-164).

Reviewing survey results and/or survey specifications for the following Appropriated Fund areas:

19. Survey Specifications for the New York, New York wage area (AC-094).

20. Any items needing further clarification from this agenda may be discussed during future scheduled meetings.

November 16, 2021

Reviewing survey results and/or survey specifications for the following Nonappropriated Fund areas:

1. Any items needing further clarification or action from the previous agenda.

2. Wage Schedule (Full Scale) for the York, Maine wage area (AC-139).

3. Wage Schedule (Wage Change) for the Pima, Arizona wage area (AC-013).

4. Wage Schedule (Wage Change) for the Yuma, Arizona wage area (AC-055).

5. Wage Schedule (Wage Change) for the Riverside, California wage area (AC-133).

Reviewing survey results and/or survey specifications for the following Appropriated Fund areas:

6. Wage Schedule (Full Scale) for the San Diego, California wage area (AC-017).

7. Wage Schedule (Full Scale) for the San Francisco, California wage area (AC-018).

8. Wage Schedule (Full Scale) for the Pensacola, Florida wage area (AC-034).

9. Wage Schedule (Full Scale) for the Central Illinois wage area (AC-046).

10. Wage Schedule (Full Scale) for the Des Moines, Iowa wage area (AC-054).

11. Wage Schedule (Full Scale) for the Baltimore, Maryland wage area (AC-066).

12. Wage Schedule (Full Scale) for the Buffalo, New York wage area (AC-092).

13. Wage Schedule (Wage Change) for the Los Angeles, California wage area (AC-013).

14. Wage Schedule (Wage Change) for the San Bernardino-Riverside-Ontario, California wage area (AC-016).

15. Wage Schedule (Wage Change) for the Santa Barbara, California wage area (AC-019).

16. Wage Schedule (Wage Change) for the New London, Connecticut wage area (AC-025).

17. Wage Schedule (Wage Change) for the Panama City, Florida wage area (AC-033).

18. Wage Schedule (Wage Change) for the Chicago, Illinois wage area (AC-047).

19. Wage Schedule (Wage Change) for the Las Vegas, Nevada wage area (AC-085).

20. Wage Schedule (Wage Change) for the Portsmouth, New Hampshire wage area (AC-087).

21. Wage Schedule (Wage Change) for the Seattle-Everett-Tacoma, Washington wage area (AC-143).

22. Survey Specifications for the Salinas-Monterey, California wage area (AC-015).

23. Survey Specifications for the Lexington, Mississippi wage area (AC-058).

24. Survey Specifications for the Northern Mississippi wage area (AC-077).

25. Survey Specifications for the Memphis, Tennessee wage area (AC-124).

26. Special Pay—Los Angeles, California Special Rates.

27. Special Pay—San Diego, California Special Rates.

28. Special Pay—New London, Connecticut Special Rates.

29. Special Pay—North Central Power Rate.

30. Special Pay—Southwest Power Rate.

31. Any items needing further clarification from this agenda may be discussed during future scheduled meetings.

November 30, 2021

Reviewing survey results and/or survey specifications for the following Nonappropriated Fund areas:

1. Any items needing further clarification or action from the previous agenda.

2. Wage Schedule (Full Scale) for the Hampden, Massachusetts wage area (AC-039).

3. Wage Schedule (Full Scale) for the Middlesex, Massachusetts wage area (AC-138).

4. Wage Schedule (Wage Change) for the Maricopa, Arizona wage area (AC-012).

5. Wage Schedule (Wage Change) for the Kings-Queens, New York wage area (AC-091).

Reviewing survey results and/or survey specifications for the following Appropriated Fund areas:

6. Survey Specifications for the Rochester, New York wage area (AC-096).

7. Survey Specifications for the Nashville, Tennessee wage area (AC-125).

8. Any items needing further clarification from this agenda may be discussed during future scheduled meetings.

December 14, 2021

Reviewing survey results and/or survey specifications for the following Nonappropriated Fund areas:

1. Any items needing further clarification or action from the previous agenda.

2. Survey Specifications for the Calhoun, Alabama wage area (AC-104).

3. Survey Specifications for the Madison, Alabama wage area (AC-105).

4. Survey Specifications for the Lake, Illinois wage area (AC-145).

5. Survey Specifications for the Douglas-Sarpy, Nebraska wage area (AC-149).

6. Survey Specifications for the Leavenworth, Kansas-Jackson-Johnson, Missouri wage area (AC-086).

7. Survey Specifications for the St. Clair, Illinois wage area (AC-151).

Reviewing survey results and/or survey specifications for the following Appropriated Fund areas:

8. Wage Schedule (Full Scale) for the Cocoa Beach-Melbourne, Florida wage area (AC-028).

9. Wage Schedule (Full Scale) for the Davenport-Rock Island-Moline, Iowa wage area (AC-053).

10. Wage Schedule (Full Scale) for the Southwestern Michigan wage area (AC-073).

11. Wage Schedule (Full Scale) for the Philadelphia, Pennsylvania wage area (AC-115).

12. Wage Schedule (Full Scale) for the Eastern South Dakota wage area (AC-121).

13. Wage Schedule (Wage Change) for the Bloomington-Bedford-Washington, Indiana wage area (AC-048).

14. Wage Schedule (Wage Change) for the Fort Wayne-Marion, Indiana wage area (AC-049).

15. Wage Schedule (Wage Change) for the Indianapolis, Indiana wage area (AC-050).

16. Wage Schedule (Wage Change) for the Kansas City, Missouri wage area (AC-080).

17. Wage Schedule (Wage Change) for the St. Louis, Missouri wage area (AC-081).

18. Wage Schedule (Wage Change) for the Southern Missouri wage area (AC-082).

19. Wage Schedule (Wage Change) for the Omaha, Nebraska wage area (AC-084).

20. Wage Schedule (Wage Change) for the Dallas-Ft. Worth, Texas wage area (AC-131).

21. Survey Specifications for the Reno, Nevada wage area (AC-086).

22. Survey Specifications for the Houston-Galveston-Texas City, Texas wage area (AC-133).

23. Special Pay—Omaha, Nebraska Special Rates.

24. Any items needing further clarification from this agenda may be discussed during future scheduled meetings.

January 11, 2022

Reviewing survey results and/or survey specifications for the following Nonappropriated Fund areas:

1. Any items needing further clarification or action from the previous agenda.

2. Survey Specifications for the Cumberland, Pennsylvania wage area (AC-092).

3. Survey Specifications for the York, Pennsylvania wage area (AC-093).

4. Survey Specifications for the Honolulu, Hawaii wage area (AC-106).

5. Survey Specifications for the Norfolk-Portsmouth-Virginia Beach, Virginia wage area (AC-111).

6. Survey Specifications for the Hampton-Newport News, Virginia wage area (AC-112).

7. Survey Specifications for the Harford, Maryland wage area (AC-148).

Reviewing survey results and/or survey specifications for the following Appropriated Fund areas:

8. Wage Schedule (Full Scale) for the Wilmington, Delaware wage area (AC-026).

9. Wage Schedule (Full Scale) for the Topeka, Kansas wage area (AC-056).

10.Wage Schedule (Full Scale) for the Wichita, Kansas wage area (AC-057).

11. Wage Schedule (Full Scale) for the Biloxi, Mississippi wage area (AC-076).

12. Wage Schedule (Full Scale) for the Roanoke, Virginia wage area (AC-142).

13. Wage Schedule (Wage Change) for the New Orleans, Louisiana wage area (AC-048).

14. Wage Schedule (Wage Change) for the Richmond, Virginia wage area (AC-141).

15. Survey Specifications for the Huntsville, Alabama wage area (AC-004).

16. Survey Specifications for the Syracuse-Utica-Rome, New York wage area (AC-097).

17. Survey Specifications for the North Dakota wage area (AC-103).

18. Any items needing further clarification from this agenda may be discussed during future scheduled meetings.

Meeting Accessibility: Pursuant to 5 U.S.C. 552b(c)(4), the DoD has determined that the meetings shall be closed to the public. The Under Secretary of Defense for Personnel and Readiness, in consultation with the DoD Office of General Counsel, has determined in writing that each of these meetings may disclose trade secrets and commercial or financial information obtained from a person and privileged or confidential.

Written Statements: Pursuant to section 10(a)(3) of the Federal Advisory Committee Act and 41 CFR 102-3.140, interested persons may submit written statements to the Designated Federal Officer for the DoDWC at any time. Written statements should be submitted to the Designated Federal Officer at the email or mailing address listed above in FOR FURTHER INFORMATION CONTACT. If statements pertain to a specific topic being discussed at a planned meeting, then these statements must be submitted no later than five (5) business days prior to the meeting in question. Written statements received after this date may not be provided to or considered by the DoDWC until its next meeting. The Designated Federal Officer will review all timely submitted written statements and provide copies to all the committee members before the meeting that is the subject of this notice.

Dated: October 15, 2021.
Aaron T. Siegel,
Alternate OSD Federal Register Liaison Officer, Department of Defense.

[FR Doc. 2021-22879 Filed 10-19-21; 8:45 am]

BILLING CODE 5001-06-P